DEPARTMENT OF TRANSPORTATION

Federal Transit Administration

FY 2022 Competitive Funding Opportunity: Mobility, Access, & Transportation Insecurity: Creating Links to Opportunity Demonstration Research: Program Lead

AGENCY: Federal Transit Administration (FTA), Department of Transportation (DOT).

ACTION: Notice of funding opportunity.

SUMMARY: The Federal Transit Administration (FTA) announces the opportunity to apply for $6,000,000 of fiscal year (FY) 2021 funds under the Public Transportation Innovation Program to serve as the Program Lead for the Mobility, Access, & Transportation Insecurity: Creating Links to Opportunity Demonstration Research Program (“Program”). The Program Lead is responsible for the planning, deployment and evaluation of research demonstrations that provide the transportation resources necessary to implement targeted strategies that mitigate transportation insecurity for a defined population and determine the value of that mitigation to individuals and communities. FTA seeks to enter into a cooperative agreement with an experienced program management or research organization to coordinate all aspects of the Program. The FTA may award additional funds, if they are made available to the Program prior to the announcement of project selection.

DATES: Complete proposals must be submitted electronically through the GRANTS.GOV “APPLY” function by 11:59 p.m. Eastern time on October 11, 2022.

Prospective applicants should initiate the process by registering on the GRANTS.GOV website promptly to ensure completion of the application process before the submission deadline. Instructions for applying can be found on FTA's website at http://www.transit.dot.gov/howtoapply and in the “FIND” module of GRANTS.GOV. The GRANTS.GOV funding opportunity ID is FTA-2022-012-TRI. Mail and fax submissions will not be accepted.

FOR FURTHER INFORMATION CONTACT: Hendrik Opstelten, FTA Office of Research, Demonstration, and Innovation, 202-366-8094, or MATI@dot.gov.

SUPPLEMENTARY INFORMATION:

Table of Contents

A. Program Description

B. Federal Award Information

C. Eligibility Information

D. Application and Submission Information

E. Application Review Information

F. Federal Award Administration Information

G. Federal Awarding Agency Contacts

H. Other Information

A. Program Description

1. Program Authority and Research Question

FTA's Public Transportation Innovation Program (49 U.S.C. 5312) supports research and demonstrations to develop and deploy ideas, practices and approaches that advance the interests of public transportation. This Notice of Funding Opportunity (NOFO) (Federal Assistance Listing: 20.530) will establish a research demonstration program to explore interventions that promote mobility access and reduce transportation insecurity and evaluate outcomes and impacts upon individuals and communities.

Transportation insecurity is the condition in which people are unable to regularly and reliably satisfy the travel necessary to meet the needs of daily life. Nationally, there are well-established policies and programs that aim to address food insecurity and housing insecurity, but not transportation insecurity. A growing body of research indicates that transportation insecurity is a significant factor in persistent poverty. This Program will develop and implement demonstrations that augment public transportation to mitigate transportation insecurity, and subsequently evaluate outcomes and effectiveness. This Program will also document the impacts and potential strategies to address transportation insecurity.

2. Program Components and Deliverables

The Program is comprised of several discrete components: (1) overall program management and coordination, (2) demonstration recruitment and selection through a two-stage competitive process, (3) human-centered demonstration design, (4) implementation of demonstrations, (5) demonstration cohort management and collaboration, and (6) structured quantitative and qualitative evaluation at the individual and aggregated levels culminating with a peer-reviewed report of findings.

The Program Lead is encouraged to assemble and lead appropriate partnerships to deliver all components of the Program.

Applicants must submit, attached to a SF-424, a narrative proposal describing their ability to satisfy all required program components and deliverables as detailed in this Notice.

i. Program Management and Coordination

The Program Lead will be responsible for overall program management, coordination, and adherence to project timelines. This includes all aspects of resource management, compliance, and reporting, including oversight for all subrecipients.

ii. Demonstration Recruitment and Selection

The Program Lead will execute a two-stage competition to recruit, select, design, and support the implementation of comparable demonstrations of locally appropriate interventions to address transportation insecurity in various urban areas across the country. The demonstration recruitment process is expected to pay explicit attention to engaging non-traditional partners and communities.

The Program Lead, or a designated team partner, will design and execute a competitive application process to solicit and select proposals from community coalitions, in close collaboration and with input from FTA's research office. Tasks include solicitation and outreach, evaluation of applications, and recommendation of applications for selection. The first stage of competition will focus on innovative and committed demonstration partnerships. Partnerships must include, at a minimum, representation from: public transportation providers, local government authorities, and community-based organizations representing the target population. The second stage of competition will select a subset of Stage 1 partnerships to implement their designed demonstrations, supporting their collection of data for not less than two years, and the evaluation of impacts in line with the demonstrations' design.

iii. Human-Centered Demonstration Design

Stage 1 of the competitive demonstration selection process will identify up to ten community coalitions selected to engage in a human-centered design process resulting in fully formed, funding-ready plans for the implementation of a transportation insecurity mitigation demonstration. The human-centered design process implemented in Stage 1 will plan for the demonstration of locally appropriate and viable interventions for transportation insecurity for a specifically identified local target population. The identification of a target population will consider, among other factors, the ability to support a statistically valid test group for a period of two years. The demonstration design process must engage representative persons from the local target population as valued subject-matter experts and participants.

Demonstration design must include a stakeholder engagement plan for recruitment of study participants and other essential partners such as government entities, philanthropies, local employers, transportation providers, community organizations, academic institutions, and the general public.

The demonstration design process must produce a financial plan for demonstration, including identification and pursuit of non-federal support for the two-year demonstration period. Demonstration plans submitted into Stage 2 should identify additional committed demonstration partners and resources.

To be eligible for consideration in Stage 2, demonstration designs must include a research program “off ramp” to either sustain or responsibly transition the demonstration at the conclusion of the two-year demonstration and research period funded under the Program. Eligible demonstration plans will also have a deployment timeline and critical milestones with associated roles and responsibilities for demonstration partners.

iv. Demonstration Deployments

Up to five designated demonstration designs may be selected to advance to Stage 2 of the Program, for implementation. The Program Lead will design a selection process that will take into consideration key priorities of the Administration, including those reflected in the President's January 20, 2021, Executive Order 13990 on Protecting Public Health and the Environment and Restoring Science to Tackle the Climate Crisis as well as Executive Order 13985, Advancing Racial Equity and Support for Underserved Communities Throughout the Federal Government. The Program Lead will execute and manage subrecipient agreements with the designated demonstration leads and aid in successful implementation of selected demonstrations as designed, in accordance with all applicable regulations and guidance. Demonstrations are anticipated to have a duration of two years.

v. Cohort Management and Collaboration

The Program Lead will manage the demonstration cohort and facilitate their interaction, bringing demonstration partners together periodically to gather qualitative research and provide feedback on their respective findings regarding the demonstration implementation and impact. The applicant should lay out plans for ongoing interaction using a variety of means and a system for the measurement of meaningful impacts from cohort management activities on the successful completion of the Demonstration efforts.

The Program Lead will maintain regular contact with the selected communities to monitor the collection and analysis of data to ensure the validity and consistency of findings in accordance with the goals of this Notice and with input of the Research Advisory Committee, as described in Section A.2.vi. Structured Demonstration and National Research, below.

Cohort management will include the collection of shared experiences across demonstration locations and unique “storytelling” of individual participants in the various demonstrations. Cohort management is intended to ensure that the customized strategies and targeted investments are having a discernable impact.

vi. Structured Demonstration and National Research

The Program Lead will develop a structured research framework for both individual local demonstrations and nationally aggregated research. The Program Lead will establish and regularly meet with a Research Advisory Committee that will review the research framework and methodology, data collection plan, and preliminary and final findings, and offer feedback to ensure the Demonstration answers the most appropriate research questions in the most valid and impactful ways. The Program Lead or partners will assist all selected demonstration leads in identifying and securing a local research partner from an accredited research institution and assist in any necessary Institutional Review Board (IRB) processes. The Program Lead will aid designated demonstration leads in establishing and maintaining randomized control and treatment groups and ensuring the collection of baseline/pre-test surveys and subsequent data collection methodologies and tools, striving for consistency across demonstrations. The Program Lead will also compile and assess data from across all demonstrations and complete an overall research findings synthesis report.

3. Program Alignment With Priorities

The purpose of this research is to assess and measure person-based interventions, leveraging public transportation, to mitigate transportation insecurity in underserved communities. As such, this research conforms with Executive Order 13985—Advancing Racial Equity and Support for Underserved Communities Through the Federal Government and Executive Order 14008—Tackling the Climate Crisis at Home and Abroad.

Research conducted under this NOFO will advance the strategic goals of the U.S. Department of Transportation to “make our transportation system safer for all people (Safety); reduce inequities across our transportation systems and the communities they affect (Equity); build more resilient and sustainable transportation systems to benefit and protect communities (Climate and Sustainability); grow an inclusive and sustainable economy (Economic Strength); and invest in purpose-driven research and innovation (Transformation).” Furthermore, this NOFO advances the Department's Innovation Principles to: “Serve our policy priorities, Help America win the 21st century, Support workers, Allow for experimentation and learn from failure, Provide opportunities to collaborate, and Be flexible and adapt as technology changes.”

B. Federal Award Information

This Notice makes available $6 million to award one competitively selected Program Lead. Funding is available under FTA's Public Transportation Innovation Program (49 U.S.C. 5312). FTA may, at its discretion, provide additional funding for the selection made under this Notice from FTA's Public Transportation Innovation Program (49 U.S.C. 5312).

An applicant whose proposal is selected for funding will receive a cooperative agreement with FTA. FTA will have substantial involvement in the administration of the cooperative agreement. FTA's role includes the right to participate in decisions to redirect and reprioritize project activities, goals, and deliverables. Applicants are encouraged to assemble and secure partnerships necessary to conduct the Program in accordance with the requirements outlined in this Notice.

Only proposals from eligible recipients for eligible activities will be considered for funding.

Pre-award authority is subject to FTA approval and is only available for costs incurred after the announcement of the project selection on FTA's website.

Projects under this Notice are for research efforts and, as such, FTA Circular 6100.1E, “Research, Technical Assistance and Training Program Guidance” (available at https://www.fta.dot.gov/regulations-and-guidance/fta-circulars/research-technical-assistance-and-training-program), will apply in administering the program.

C. Eligibility Information

1. Eligible Applicants

Eligible applicants under this Notice include the following:

• Departments, agencies, and instrumentalities of the Government, including Federal laboratories

• Institutions of higher education including research universities, particularly those with Minority Serving Institution status

• Non-profit organizations

• For-profit organizations

• Technical and community colleges

Applicants must demonstrate experience conducting comprehensive research demonstrations, including those focused on civic research, and data- and technology-oriented research and innovation in the areas of social services, mobility options, urban spaces, public health, public safety, and related areas.

Applicants or proposed partners must demonstrate technical capabilities to:

• Effectively manage a national research program.

• Design a credible research study that includes human subjects and Institutional Review Board (IRB) processes.

• Implement data-driven and community-centered decision-making in the iteration of program management.

• Manage Federal funding and eligible expenses.

• Conduct human-centered design.

• Engage with public agencies, authorities, research institutions, community-based organizations, and systemically disadvantaged populations to ensure their meaningful input in the design of systems change-focused research and activities.

• Design and support effective, targeted, adaptive, and creative human-centered policies and services responsive to a local area's socioeconomic and political distinctions.

• Leverage best practices in shared transportation mobility and payment systems.

• Apply insights from the Centers for Disease Control Social Determinants of Health.

Eligible applicants are encouraged to identify in their proposal one or more project partners with a substantial interest and involvement in the project activities or objectives. If an application that involves such a partnership is selected for funding, the competitive selection process will be deemed to satisfy the requirement for a competitive procurement under 49 U.S.C. 5325(a) for the named entities. Applicants are advised that any changes to the proposed partnership after the award will require FTA's written approval and must be consistent with the scope of the approved project.

To be considered eligible, an applicant must be able to demonstrate the requisite legal, financial, and technical capabilities to receive and administer Federal funds under this program.

2. Cost Sharing or Matching

Per 49 U.S.C. 5312(g), the eligible Federal share may be up to 100 percent for the Mobility, Access, & Transportation Insecurity: Creating Links to Opportunity Demonstration Research Program. Applicants may apply without a cost share. Applicants may also apply with a cost share and must provide the local share of the net project in cash, or in-kind, and must document in its application the source of the local match. Eligible sources of local match are detailed in FTA C 6100.1E.

3. Eligible Projects

This Notice solicits applications to select a Program Lead to establish a research demonstration program that will explore interventions to address transportation insecurity and evaluate outcomes and impacts. Eligible activities include data collection, transportation feasibility study and analysis, economic analysis, stakeholder engagement and outreach, obtaining any necessary equipment and services, acquiring or developing software and hardware interfaces to implement the project, and performance measurement and evaluation.

Eligible demonstrations must target low-income people and communities that routinely experience transportation insecurity. All demonstrations should share similar characteristics of target population, urban context, and availability of public transportation resources. Eligible research demonstration activities include planning, engineering, or development of technical or financing plans; public engagement and participant recruitment; capital or operating expenses serving the treatment group; technology applications, or similar necessary components to design and select demonstrations.

4. Data Management Plan

FTA seeks to improve public transportation for America's communities by sharing digital data or source code collected or developed through its research with the public. This allows research organizations, transit agencies, and other stakeholders to learn from and expand upon the insights developed from FTA-funded research.

An award made pursuant to this NOFO will be subject to the latest version of FTA's Master Agreement (available at https://www.transit.dot.gov/funding/granteeresources/sample-fta-agreements/fta-grant-agreements), including Section 17 Patent Rights and Section 18 Rights in Data and Copyrights. All work conducted under this award must follow the Department data policies outlined in the DOT Public Access Plan at: https://ntl.bts.gov/public-access/how-comply. Recipients are required to include these obligations in any sub-awards or other related funding agreements.

Public Data Access requirements include developing a Data Management Plan (DMP) and submitting the DMP for FTA review. A DMP is a document that describes how recipients plan to handle digital datasets, software, or code generated over the course of a research project pursuant to federal and Departmental requirements. A DMP must be provided as a condition of receiving FTA funds under the Section 5312 Research Program and should adequately identify: (1) The data to be collected, (2) how the data will further the goals of this effort, (3) how the data will be made accessible, and (4) how the data will be stored. DMPs can be updated over time if the scope of the project or the type of data that will be collected changes. FTA staff is available to assist recipients with complying with public data access requirements.

FTA expects recipients to remove confidential business information (CBI) and Personally Identifiable Information (PII) before providing public access to project data. Recipients must ensure the appropriate data are accessible to FTA or the public for a minimum of five years after the award's period of performance expires.

Recipients must make available to the Department copies of all work developed in performance of a project funded under this Notice, including but not limited to software and data. Data rights shall be in accordance with 2 CFR 200.315, Intangible Property.

D. Application and Submission Information

1. Address To Request Application

Applications must be made using the Standard Form 424 (SF-424), which can be downloaded from GRANTS.GOV.

2. Content and Form of Application Submission

a. Proposal Submission

General information for submitting applications along with specific instructions for the forms and attachments required for submission can be found at GRANTS.GOV. A complete proposal submission will consist of at least two files: (1) The SF-424 “Application for Federal Assistance” and (2) a narrative proposal document in Microsoft Word, Adobe Acrobat, or a compatible file format that addresses the required elements contained in this Notice. The narrative proposal should be in the format outlined in the “Proposal Preparation and Content” section. A narrative proposal submission may contain additional supporting documentation as attachments. Once completed, the narrative proposal and any supporting documents must be placed in the “Attachments” section of the SF-424. Applicants must attach the narrative proposal file to their submission in GRANTS.GOV to successfully complete the application process. The applicant must respond to all sections of the SF-424 Application for Federal Assistance and the requirements of this Notice. The information in the narrative proposal will be used to determine applicant and project eligibility for the program, and to evaluate the proposal against the selection criteria described in this Notice. Applicants should carefully review the criteria noted in Section E and ensure their proposal addresses the factors listed.

Failure to submit the information as requested can delay review or disqualify the application.

b. Proposal Preparation and Content

Applicants must submit one electronic file for Proposals in a Microsoft Word, Adobe Acrobat, or compatible file format, double-spaced using Times New Roman, 12-point font. The proposal must contain the following components and adhere to the specified maximum lengths:

1. Cover Sheet (not to exceed 1 page): The cover sheet must include the entity submitting the proposal, principal's name, title, and contact information (e.g., address, office and mobile phone, fax, and email). The cover sheet must also include name and contact information for the entity's point of contact for all cooperative agreement administrative activities (if different from principal).

2. Abstract (not to exceed 1 page): The Abstract must include background, purpose, methodology, intended outputs, outcomes, impacts, and plan for accomplishing the goals and objectives of this program.

3. Table of Contents (not to exceed 1 page): The Table of Contents shall list each section of the proposal (including Appendices) by title and page number.

4. Project Budget (not to exceed 5 pages): The proposed project budget must account for multiple years and outline the total cost of all services and products including salaries and fringe benefits, supplies, travel, equipment, and proposed contractual arrangements (e.g., subcontracts, consultant services) and how these estimated costs are connected to the project scope.

5. Project Work Plan (not to exceed fifteen pages total): The proposed project work plan must include the following information:

a. Methodology—Provide a methodology for addressing the goals and objectives described above under Section A of this Notice; include the methodology for executing a multistage competitive solicitation process and engaging, coordinating, and assisting with identified local target populations as directed by FTA that address the needs of transportation insecurity.

b. Statement of Work—Provide all proposed work tasks for the project and how the proposed work tasks will be accomplished. Include the tasks for proposed activities, resources, milestones, and a timeline with outcomes for implementing a two-stage competition.

i. Staffing Plan—Describe the approach for managing the project team, including the distribution of responsibilities among project partners, and what activities each project team member will perform.

ii. Coordination with FTA—Identify the plan for coordinating the project team's activities and deliverables with the FTA Research office and other USDOT offices, as needed.

iii. Research and Data Collection—Identify activities and the plan for electronic collection, maintenance, storage, and dissemination of demographic, financial, and economic development data for the use by the project team, stakeholders, FTA, and other customers.

iv. Communication Plan—Provide a proposed plan for communications at the local level, including with local target population and stakeholders. The plan should identify innovative communication strategies including, but not limited to the following: social media (e.g., Facebook, Twitter, YouTube), text alerts, email, website publication, and toll-free telephone numbers.

v. Performance Measures—Identify multiple performance measures that FTA should use to assess the Program's effectiveness on a local target population's well-being and quality of life.

vi. Deliverables—Provide a proposed list of proposed deliverables (e.g., community plans, reports, services, etc.). Include quarterly reports and the synthesis report to be submitted to FTA.

6. Staff Qualifications (not to exceed 10 pages total):

a. Organizational Capacity—Provide a narrative that briefly describes the structure of the proposer including its history and experience in performing complex research activities. Include a narrative of the proposer's understanding of the activities in this solicitation and its responsibility for delivery of a two-stage competition to address transportation insecurity. Include the proposer's organization chart.

b. Project Team Structure—Provide a narrative that briefly describes the structure and makeup of the project team. Include the names of all partner organizations, and the legal relationship, if any, between the applicant and each proposed partner. Include the names and functional titles of each project team member. Proposers must also provide documentation of the project team, such as a memorandum of agreement or letter of intent signed by all parties that describes the parties' roles, responsibilities, commitment in the proposed project, and how the applicant will ensure they will have enough time to devote to the project. Include an organization chart for the entire project team.

c. Technical Capacity of Project Team—Provide a detailed description of the technical capacity of the project team members and what activities each team member will perform. Include project staff qualifications, education, knowledge, and results of prior experience in public transportation, economic development, human-centered design and development, stakeholder coordination and engagement, including engaging diverse community stakeholders in a targeted manner with proven and impactful methods. Additionally, applicants should discuss successful completion of similar or relevant projects—case studies, journal articles, or references.

d. Biographical Sketches—In addition to the Staff Qualifications narrative (10 page maximum), include a one-page biographical sketch for each staff member proposed to take a principal role or perform significant work on the project.

7. Proposals shall adhere to the specified maximum page lengths. Supplemental materials such as letters of support can be included with the proposal in an appendices section that is beyond the page limit above (all supplemental materials not to exceed 18 pages). Supplemental materials will not be evaluated independently.

3. Unique Entity Identifier and System for Award Management (SAM)

Each applicant is required to: (1) be registered in SAM before submitting an application; (2) provide a valid unique entity identifier in its application; and (3) continue to always maintain an active SAM registration with current information during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant has an exception approved by FTA or the U.S. Office of Management and Budget under 2 CFR 25.110(c) or (d).

SAM registration takes approximately 3-5 business days, but FTA recommends allowing ample time, up to several weeks, for completion of all steps. For additional information on obtaining a unique entity identifier, please visit www.sam.gov.

4. Submission Dates and Times

Project proposals must be submitted electronically through GRANTS.GOV by 11:59 p.m. Eastern time on October 11, 2022. Proposals submitted after the deadline will only be considered under extraordinary circumstances not under the applicant's control. Mail, fax, and email submissions will not be accepted.

FTA urges applicants to submit applications at least 72 hours prior to the due date to allow time to correct any problems that may have caused either GRANTS.GOV or FTA systems to reject the submission. GRANTS.GOV attaches a time stamp to each application at the time of submission. Proposals submitted after the deadline will be considered only if lateness was due to extraordinary circumstances not under the applicant's control. GRANTS.GOV scheduled maintenance and outage times are announced in advance on the GRANTS.GOV website. Deadlines will not be extended due to scheduled website maintenance.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to take steps to keep their registration up to date before submissions can be made successfully: (1) registration in SAM is renewed annually, and (2) persons making submissions on behalf of the Authorized Organization Representative (AOR) must be authorized in GRANTS.GOV by the AOR to make submissions.

5. Funding Restrictions

Refer to Section C.3., Eligible Projects, for information on activities that are allowable. Allowable direct and indirect expenses must be consistent with the Governmentwide Uniform Administrative Requirements and Cost Principles (2 CFR part 200) and FTA Circular 5010.1E.

Funds available under this NOFO cannot be used to reimburse applicants for otherwise eligible expenses incurred prior to FTA issuing pre-award authority for selected projects.

E. Application Review Information

1. Criteria

Projects will be evaluated solely on the materials provided in the Proposal document. FTA will evaluate proposals based on the following criteria:

a. Organizational Capacity and Key Personnel Experience

Applicants should note the structure of the lead organization including its history and experience in performing complex research activities. Applicants should include a narrative of the applicant's understanding of the activities called for in this funding opportunity and its responsibility for coordinating with local community organizations for demonstration activities. Applicants should describe the structure and makeup of the project team to clearly demonstrate the applicant's ability to secure and promote coordination of human services and targeted/coordinated investments to mitigate transportation insecurity via partnerships and other effective collaborative approaches. These collaborations should encourage participation from local municipalities, philanthropies, local employers, community services (education, health, public safety), economic development organizations, metropolitan planning organizations, etc. Applicants should note key project team personnel who will be involved in the project and how the applicant will ensure they will have enough time to devote to the project. Additionally, applicants should discuss successful completion of similar or relevant projects—case studies, journal articles, or references.

b. Proposer and Proposal Team Technical Expertise

Applicants should clearly detail the technical capacity of the lead organization and what activities each team member will perform. In addition to their qualifications in conducting nationally significant research, applicants should demonstrate project team knowledge in public transportation, economic development, human-centered design and development, and stakeholder coordination and engagement, including engaging diverse community stakeholders in a targeted manner with proven and impactful methods.

c. Academic, Applied Research and Other Related Experience

Applicants should provide evidence of academic, applied research experience and other related experience (e.g., past program management utilizing federal funding, collaboration with research institutions, or program design and implementation) including research focused on economically distressed communities and vulnerable populations and their barriers or challenges to accessing adequate and reliable transportation. The proposal should detail the applicant's ability to identify and address transportation issues, such as identifying transportation proximity to desired goods, services, activities, and destinations, to support the program's measurement goals.

d. Proposed Partnerships

Applicants should provide a narrative that discusses a creative and durable collaboration model to successfully implement a project that addresses transportation insecurity. The narrative must include a strong framework that fosters partnerships that safeguard equity and cultural diversity in local communities. The partnership model must demonstrate an ability to reach and engage underserved communities for demonstration development and selection and to support and empower these communities throughout implementation with an emphasis toward long-term sustainability for well performing models. Emphasis should be placed on the proposing entity's ability to engage trusted community-based organizations, local municipalities, philanthropies, local employers, community services (education, public health, public safety), metropolitan planning organizations, and research institutions. The approach or framework must have the agility to pivot and embrace evolving change.

e. Project Approach and Work Plan

Applicants will be evaluated on the proposed methodology and overall project approach pursuant to the inclusion of a multi-year work plan that demonstrates the Program Lead's understanding of all activities, responsibilities, and costs required to establish and implement the prescribed work. In assessing whether the proposed implementation plans are reasonable and complete, FTA will review the proposed project work plan, including all necessary project milestones and the overall project timeline, as well as ensuring the viability of the project team in subsequent years.

f. Technical, Legal, and Financial Capacity

Applicants must demonstrate the financial and organizational capacity and managerial experience to successfully oversee and implement this project. FTA may review relevant assessments and public records to determine whether there are any outstanding legal, technical, or financial issues with the applicant that would affect the outcome of the proposed project.

For applications that include named project partners, FTA will also consider the technical, legal, and financial capacity of the proposed partners.

2. Review and Selection Process

An FTA technical evaluation committee will evaluate proposals based on the published evaluation criteria. Members of the technical evaluation committee may request additional information from applicants, if necessary. Based on the review of the technical evaluation committee, the FTA Administrator will determine the final selection for program funding.

When selecting the Program Lead, FTA will consider the applicants' ability and its proposed plan to recruit and select demonstration sites to address key priorities of the Administration, including making selections that advance the President's January 20, 2021, Executive Order 13990, the selecting official will consider applications that may provide other air quality benefits as part of the application review. When selecting demonstration areas, applicants should identify any nonattainment or maintenance areas under the Clean Air Act in the proposed service area. Nonattainment or maintenance areas should be limited to the following applicable National Ambient Air Quality Standards criteria pollutants: carbon monoxide, ozone, and particulate matter 2.5 and 10. The U.S. Environmental Protection Agency's Green Book (available at https://www.epa.gov/green-book) is a publicly available resource for nonattainment and maintenance area data. This consideration will further the goals of the Executive Order, including the goal to prioritize environmental justice (EJ), and historically disadvantaged communities.

In further support of Executive Order 14008, FTA will give priority consideration to applications that create significant community benefits relating to the environment, including those projects that address greenhouse gas emissions and climate change impacts. FTA encourages applicants to demonstrate whether they have considered climate change and environmental justice in terms of the transportation planning process or anticipated design components with outcomes that address climate change (e.g., resilience or adaptation measures). The application should describe what specific climate change or environmental justice activities can be incorporated, including whether a project supports a Climate Action Plan, whether an equitable development plan can be prepared, and whether tools such as EPA's EJSCREEN (https://www.epa.gov/ejscreen) can be applied in project planning. The application should also describe specific and direct ways the program will mitigate or reduce climate change impacts including any components that reduce emissions, promote energy efficiency, incorporate electrification or low emission or zero emission vehicle infrastructure, increase resiliency, or recycle or redevelop existing infrastructure.

In addition, FTA will consider benefits to EJ communities when reviewing applications received under this program. Applicants should identify any EJ populations to be served within potential service areas and describe anticipated benefits to that population(s) should the applicant receive a grant under this program. A formal EJ analysis that is typically included in transportation planning or environmental reviews is not requested. Among the factors, in determining the allocation of program funds FTA may consider geographic diversity, diversity in the size of the grantees receiving funding, or the applicant's receipt of other competitive awards. Respectively, FTA will evaluate demonstration proposals to determine the extent that the proposed project will address affordable housing needs, provide equitable housing choices for environmental justice populations, and avoid displacement of low-income households.

In support of Executive Order 14008, and consistent with the Office of Management & Budget's (OMB's) Interim Implementation Guidance for the Justice40 Initiative (https://www.whitehouse.gov/wp-content/uploads/2021/07/M-21-28.pdf), Historically Disadvantaged Communities include (a) certain qualifying census tracts, (b) any Tribal land, or (c) any territory or possession of the United States. The USDOT has provided a mapping tool to assist applicants in identifying whether a project is located in a Historically Disadvantaged Community located at: https://usdot.maps.arcgis.com/apps/dashboards/d6f90dfcc8b44525b04c7ce748a3674a. Use of this map tool is optional; in both Stage 1 and Stage 2, demonstration applicants may provide an image of the map tool outputs, or alternatively, consistent with OMB's Interim Guidance, demonstration applicants can supply quantitative, demographic data of their participants demonstrating the percentage of their participants that meets the criteria described in Executive Order 14008 for disadvantaged populations. Examples of Disadvantaged Communities that an applicant could address using geographic or demographic information include low income, high and/or persistent poverty, high unemployment and underemployment, racial and ethnic residential segregation, linguistic isolation, or high housing cost burden and substandard housing. Additionally, in support of the Justice40 Initiative, the applicant also should provide evidence of strategies that the applicant has used in the planning process to seek out and consider the needs of those traditionally disadvantaged and underserved by existing transportation systems. For technical assistance using the mapping tool, please contact GMO@dot.gov.

3. Integrity and Performance Review

Prior to making an award, FTA is required to review and consider any information about the applicant that is in FAPIIS, the designated integrity and performance system accessible through SAM. An applicant may review and comment on any information about itself that a Federal awarding agency previously entered. FTA will consider any comments by the applicant, in addition to the other information in the designated integrity and performance system, in making a judgment about the applicant's and proposed partners' integrity, business ethics, and record of performance under Federal awards when completing the review of risk posed by applicants as described in the Office of Management and Budget's Uniform Requirements for Federal Awards (2 CFR 200.206).

F. Federal Award Administration Information

1. Federal Award Notices

FTA will notify the successful applicant and may announce the selection on its website, https://www.transit.dot.gov. Following notification, the successful applicant will be required to submit its application through the FTA Transit Award Management System (TrAMS).

2. Administrative and National Policy Requirements

a. Pre-Award Authority

At the time the project selection is announced, FTA may extend pre-award authority for the successful applicant. There is no blanket pre-award authority for the project before announcement. FTA will issue specific guidance to the selected recipient regarding pre-award authority at the time of selection. FTA does not provide pre-award authority for competitive funds until projects are selected, and even then, there are Federal requirements that must be met before costs are incurred. For more information about FTA's policy on pre-award authority, please see the most recent Apportionments, Allocations and Program Information Notice at: https://www.transit.dot.gov/regulations/federal-register-documents/2022-09143.

b. Cooperative Agreement Requirements

The successful applicant will apply for a cooperative agreement through TrAMS and adhere to the customary FTA grant requirements of 49 U.S.C. 5312, Public Transportation Innovation, including those of FTA C 6100.1E, where applicable. FTA will award and manage a cooperative agreement through TrAMS. Discretionary grants and cooperative agreements greater than $500,000 will go through the Congressional notification and release process. Assistance regarding these requirements is available from FTA.

c. Made in America

All capital procurements must meet FTA's Buy America requirements (49 U.S.C. 5323(j) and 49 CFR part 661) and the Build America, Buy America Act's domestic preference requirements for infrastructure projects (§§ 70901-70927 of the Infrastructure Investment and Jobs Act, Pub. L. 117-58), which together require that all iron, steel, manufactured goods and construction materials be produced in the United States, and set minimum domestic content and final assembly requirements for rolling stock.

d. Disadvantaged Business Enterprises

Recipients receiving planning, capital, or operating assistance that will award prime contracts exceeding $250,000 in FTA funds in a Federal fiscal year must comply with Department of Transportation Disadvantaged Business Enterprise (DBE) program regulations (49 CFR part 26). Applicants should expect to include any funds awarded, excluding those to be used for vehicle procurements, in setting their overall DBE goal.

e. Standard Assurances

If an applicant receives an award, the applicant must assure that it will comply with all applicable Federal statutes, regulations, executive orders, directives, FTA circulars, and other Federal administrative requirements in carrying out any project supported by the FTA award. The applicant acknowledges that it will be under a continuing obligation to comply with the terms and conditions of the agreement issued for its project with FTA. The applicant understands that Federal laws, regulations, policies, and administrative practices might be modified from time to time and may affect the implementation of the project. The most recent Federal requirements will apply to the project unless FTA issues a written determination otherwise. The applicant must submit the most recent FTA Certifications and Assurances before receiving an award if it does not have current certifications on file.

f. External Communications

The successful applicant must communicate with their FTA project manager prior to engaging in any external communications regarding the Program. This includes any work developing news or magazine stories with media organizations, including print, video, online, or otherwise. Additionally, the FTA project manager must be notified if project information, including results and metrics, will be shared during a webinar or other presentation open to the public produced either by the recipient itself or another organization. The successful applicant must consult with their FTA project manager at the beginning of their agreement to discuss and plan any external communications about their project.

g. Software Provisions

Any standards, guidance, tools or software developed as a part of this solicitation will be subject to provisions of FTA's Master Agreement and evaluated for the potential to be shared for FTA purposes.

3. Reporting

Post-award reporting requirements include the electronic submission of Federal Financial Reports and Milestone Progress Reports in TrAMS on a quarterly basis. Documentation is required for payment. Additional reporting may be required specific to the Transportation Insecurity Mitigation Demonstration Research Program and the recipient may be expected to participate in events or peer networks related to the goals and objectives of the program. The Federal Financial Accountability and Transparency Act (FFATA) requires data entry at the FFATA Sub Award Reporting System (http://www.FSRS.gov) for all sub-awards and sub-contracts issued for $30,000 or more, as well as addressing executive compensation for both award recipients and sub-award organizations.

The successful applicant should include any goals, targets, and indicators referenced in their application in the Executive Summary of the TrAMS application.

As part of completing the annual certifications and assurances required of FTA grant recipients, a successful applicant must report on the suspension or debarment status of itself and its principals.

If the award recipient's active grants, cooperative agreements, and procurement contracts from all Federal awarding agencies exceeds $10,000,000 for any period of time during the period of performance of an award made pursuant to this Notice, the recipient must comply with the Recipient Integrity and Performance Matters reporting requirements described in Appendix XII to 2 CFR part 200.

G. Federal Awarding Agency Contacts

For further information concerning this Notice, please contact the Transportation Insecurity Mitigation Team, FTA Office of Research, Demonstration, and Innovation, by phone at 202-366-8094, or by email at MATI@dot.gov. A TDD is available for individuals who are deaf or hard of hearing at 800-877-8339. In addition, FTA will post answers to questions and requests for clarifications on FTA's website at: https://www.transit.dot.gov/research-innovation/mobility-access-and-transportation-insecurity-creating-links-opportunity.

To ensure applicants receive accurate information about eligibility, applicants are encouraged to contact FTA directly, rather than through intermediaries or third parties, with questions. FTA staff may also conduct briefings on the FY 2022 competitive grants selection and award process upon request.

For issues with GRANTS.GOV, please contact GRANTS.GOV by phone at 1-800-518-4726 or by email at support@grants.gov.

H. Other Information

This program is not subject to Executive Order 12372, “Intergovernmental Review of Federal Programs.”

Nuria I. Fernandez,
Administrator.

[FR Doc. 2022-17015 Filed 8-8-22; 8:45 am]

BILLING CODE 4910-57-P